DEPARTMENT OF EDUCATION

[Docket No.: ED-2024-SCC-0057]

Agency Information Collection Activities; Submission to the Office of Management and Budget for Review and Approval; Comment Request; The Title VI Undergraduate International Studies and Foreign Language (UISFL) Program Application (1894-0001)

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before May 20, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Sara Starke, 202-987-0391.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The Title VI Undergraduate International Studies and Foreign Language (UISFL) Program Application (1894-0001).

OMB Control Number: 1840-0796.

Type of Review: An extension without change of a currently approved ICR.

Respondents/Affected Public: Private Sector.

Total Estimated Number of Annual Responses: 100.

Total Estimated Number of Annual Burden Hours: 11,000.

Abstract: This application package is used by institutions of higher education, partnerships between nonprofit educational organizations and institutions of higher education, and public and private nonprofit organizations, to apply for grants under the Title VI UISFL program. Information submitted in this collection will be used during the peer review to evaluate and score the applications, and to make funding decisions. The Department requires this information collection in order to make discretionary grant awards under this program.

This discretionary grant falls under the streamlined grant process, 1894-0001, which waives the 60-day comment period (Pub. L. 104-13, Section 3505(a)(2)).

This collection is being submitted under the Streamlined Clearance Process for Discretionary Grant Information Collections (1894-0001). Therefore, the 30-day public comment period notice will be the only public comment notice published for this information collection.

Dated: April 15, 2024.
Kun Mullan,
PRA Coordinator, Strategic Collections and Clearance, Governance and Strategy Division, Office of Chief Data Officer, Office of Planning, Evaluation and Policy Development.

[FR Doc. 2024-08266 Filed 4-17-24; 8:45 am]

BILLING CODE 4000-01-P